DEPARTMENT OF ENERGY

Federal Energy Regulatory Commission

Combined Notice of Filings #1

Take notice that the Commission received the following electric corporate filings:

Docket Numbers: EC15-56-000.

Applicants: Indianapolis Power & Light Company, CDP Infrastructure Fund GP.

Description: Application for Authorization Under Section 203 of the Federal Power Act of Indianapolis Power & Light Company and CDP Infrastructure Fund GP.

Filed Date: 12/23/14.

Accession Number: 20141223-5160.

Comments Due: 5 p.m. ET 1/13/15.

Take notice that the Commission received the following exempt wholesale generator filings:

Docket Numbers: EG15-33-000.

Applicants: Alterna Springerville LLC.

Description: Self-Certification of EWG status of Alterna Springerville LLC.

Filed Date: 12/23/14.

Accession Number: 20141223-5287.

Comments Due: 5 p.m. ET 1/13/15.

Docket Numbers: EG15-34-000.

Applicants: LDVF1 TEP LLC.

Description: Self-Certification of EWG Status of LDVF1 TEP LLC.

Filed Date: 12/24/14.

Accession Number: 20141224-5075.

Comments Due: 5 p.m. ET 1/14/15.

Take notice that the Commission received the following electric rate filings:

Docket Numbers: ER10-1585-007; ER10-1594-007; ER10-1617-007; ER10-1619-004; ER10-1620-005; ER10-1625-005; ER12-60-009; ER10-1632-009; ER10-1628-007.

Applicants: Alabama Electric Marketing, LLC, California Electric Marketing, LLC, New Mexico Electric Marketing, LLC, Tenaska Alabama Partners, L.P., Tenaska Alabama II Partners, L.P., Tenaska Georgia Partners, L.P., Tenaska Power Management, LLC, Texas Electric Marketing, LLC, Tenaska Power Services Co.

Description: Updated Market Power Analysis of the Tenaska MBR Sellers under ER10-1585, et al.

Filed Date: 12/22/14.

Accession Number: 20141222-5397.

Comments Due: 5 p.m. ET 2/20/15.

Docket Numbers: ER10-1781-002.

Applicants: Northern Indiana Public Service Company.

Description: Triennial Update of Northern Indiana Public Service Company.

Filed Date: 12/22/14.

Accession Number: 20141222-5394.

Comments Due: 5 p.m. ET 2/20/15.

Docket Numbers: ER10-3145-006; ER10-3147-006; ER13-442-003; ER10-3116-006; ER10-3120-006; ER11-2036-006; ER13-1544-003; ER10-3128-006; ER10-1800-006; ER10-3136-006; ER11-2701-008; ER10-1728-006; ER10-2491-006.

Applicants: AES Alamitos, LLC, AES Armenia Mountain Wind, LLC, AES Beaver Valley, LLC, AES Energy Storage, LLC, AES Huntington Beach, L.L.C., AES Laurel Mountain, LLC, AES ES Tait, LLC, AES Redondo Beach, L.L.C., Indianapolis Power & Light Company, Mountain View Power Partners, LLC, Mountain View Power Partners IV, LLC, The Dayton Power and Light Company, DPL Energy, LLC.

Description: Triennial Market Power Analysis for the Central Region of AES MBR Affiliates under ER10-3145, et al.

Filed Date: 12/22/14.

Accession Number: 20141222-5395.

Comments Due: 5 p.m. ET 2/20/15.

Docket Numbers: ER14-1955-002.

Applicants: RTO Energy Trading, LLC.

Description: Notice of Change in Status of RTO Energy Trading, LLC.

Filed Date: 12/22/14.

Accession Number: 20141222-5400.

Comments Due: 5 p.m. ET 1/12/15.

Docket Numbers: ER14-2295-001.

Applicants: Waterbury Generation, LLC.

Description: Compliance filing per 35: Triennial Review to be effective 2/23/2015.

Filed Date: 12/23/14.

Accession Number: 20141223-5284.

Comments Due: 5 p.m. ET 1/13/15.

Docket Numbers: ER14-2864-001.

Applicants: PJM Interconnection, L.L.C.

Description: Tariff Amendment per 35.17(b): Joint Response of PJM and BG&E to Deficiency Notice and Amendment in ER14-2864 to be effective 11/12/2014.

Filed Date: 12/23/14.

Accession Number: 20141223-5302.

Comments Due: 5 p.m. ET 1/13/15.

Docket Numbers: ER14-2867-001.

Applicants: Baltimore Gas and Electric Company, PJM Interconnection, L.L.C.

Description: Tariff Amendment per 35.17(b): Joint Reponse of PJM and BG&E to Deficiency Notice and Amendment in ER14-2867 to be effective 11/12/2014.

Filed Date: 12/23/14.

Accession Number: 20141223-5309.

Comments Due: 5 p.m. ET 1/13/15.

Docket Numbers: ER15-21-002.

Applicants: Southwest Power Pool, Inc.

Description: Compliance filing per 35: Attach AG Section 4 Compliance Revisions—Physical Withholding Review/Reporting to be effective 3/1/2014.

Filed Date: 12/23/14.

Accession Number: 20141223-5176.

Comments Due: 5 p.m. ET 1/13/15.

Docket Numbers: ER15-261-001.

Applicants: Puget Sound Energy, Inc.

Description: Tariff Amendment per 35.17(b): Tanner NITSA SA No. 543 Amendment 1 to be effective 10/1/2011.

Filed Date: 12/23/14.

Accession Number: 20141223-5154.

Comments Due: 5 p.m. ET 1/13/15.

Docket Numbers: ER15-707-000.

Applicants: Consolidated Edison Company of New York, Inc.

Description: § 205(d) rate filing per 35.13(a)(1): PASNY Tariff RY2 12-2014 to be effective 1/1/2015.

Filed Date: 12/23/14.

Accession Number: 20141223-5110.

Comments Due: 5 p.m. ET 1/13/15.

Docket Numbers: ER15-708-000.

Applicants: Consolidated Edison Company of New York, Inc.

Description: § 205(d) rate filing per 35.13(a)(1): Con Edison WDS 12-2014 to be effective 1/1/2015.

Filed Date: 12/23/14.

Accession Number: 20141223-5126.

Comments Due: 5 p.m. ET 1/13/15.

Docket Numbers: ER15-709-000.

Applicants: Midcontinent Independent System Operator, Inc., MidAmerican Energy Company.

Description: § 205(d) rate filing per 35.13(a)(2)(iii): 2014-12-23_SA 2709 MidAmerican-HCPD WDS Agreement to be effective 1/10/2015.

Filed Date: 12/23/14.

Accession Number: 20141223-5157.

Comments Due: 5 p.m. ET 1/13/15.

Docket Numbers: ER15-710-000.

Applicants: Arizona Public Service Company.

Description: § 205(d) rate filing per 35.13(a)(2)(iii): Service Agreement No. 341—NITS with ED3 to be effective 1/1/2015.

Filed Date: 12/23/14.

Accession Number: 20141223-5163.

Comments Due: 5 p.m. ET 1/13/15.

Docket Numbers: ER15-711-000.

Applicants: PacifiCorp.

Description: § 205(d) rate filing per 35.13(a)(2)(iii): West Valley A&R EIM Participation Construction Agmt Rev 1 to be effective 12/24/2014.

Filed Date: 12/23/14.

Accession Number: 20141223-5177.

Comments Due: 5 p.m. ET 1/13/15.

Docket Numbers: ER15-712-000.

Applicants: PJM Interconnection, L.L.C.

Description: Tariff Withdrawal per 35.15: Notice of Cancellation of Service Agreement No. 3991 (Queue Y3-062) to be effective 2/15/2015.

Filed Date: 12/23/14.

Accession Number: 20141223-5178.

Comments Due: 5 p.m. ET 1/13/15.

Docket Numbers: ER15-713-000.

Applicants: Southern California Edison Company.

Description: § 205(d) rate filing per 35.13(a)(2)(iii): Amended & Restated Firm Transmission Service Agmt with MSR to be effective 1/1/2015.

Filed Date: 12/23/14.

Accession Number: 20141223-5207.

Comments Due: 5 p.m. ET 1/13/15.

Docket Numbers: ER15-714-000.

Applicants: Southwest Power Pool, Inc.

Description: § 205(d) rate filing per 35.13(a)(2)(iii): Revisions to Attach AF Section 3—Intra-Day Mitigation Measures Clarifications to be effective 2/21/2015.

Filed Date: 12/23/14.

Accession Number: 20141223-5210.

Comments Due: 5 p.m. ET 1/13/15.

Docket Numbers: ER15-715-000.

Applicants: The Connecticut Light and Power Company.

Description: § 205(d) rate filing per 35.13(a)(2)(iii): CPV Towantic, LLC. Engineering, Design, Permitting, Siting Agreement to be effective 12/5/2014.

Filed Date: 12/23/14.

Accession Number: 20141223-5221.

Comments Due: 5 p.m. ET 1/13/15.

Docket Numbers: ER15-716-000.

Applicants: ISO New England Inc., New England Power Pool Participants Committee.

Description: § 205(d) rate filing per 35.13(a)(2)(iii): Chges. to Allow On-Peark Demand Resources to Qualify as Ren. Tech. Res. to be effective 2/21/2015.

Filed Date: 12/23/14.

Accession Number: 20141223-5222.

Comments Due: 5 p.m. ET 1/13/15.

Docket Numbers: ER15-717-000.

Applicants: ANP Blackstone Energy Company, LLC.

Description: § 205(d) rate filing per 35.13(a)(2)(iii): Triennial Review to be effective 2/23/2015.

Filed Date: 12/23/14.

Accession Number: 20141223-5254.

Comments Due: 5 p.m. ET 1/13/15.

Docket Numbers: ER15-718-000.

Applicants: West Valley Power, LLC.

Description: § 205(d) rate filing per 35.13(a)(2)(iii): Section 205 filing to be effective 12/24/2014.

Filed Date: 12/23/14.

Accession Number: 20141223-5253.

Comments Due: 5 p.m. ET 1/13/15.

Docket Numbers: ER15-719-000.

Applicants: ANP Bellingham Energy Company, LLC.

Description: § 205(d) rate filing per 35.13(a)(2)(iii): Triennial Review to be effective 2/23/2015.

Filed Date: 12/23/14.

Accession Number: 20141223-5255.

Comments Due: 5 p.m. ET 1/13/15.

Docket Numbers: ER15-720-000.

Applicants: Calumet Energy Team, LLC.

Description: § 205(d) rate filing per 35.13(a)(2)(iii): Triennial Review to be effective 2/23/2015.

Filed Date: 12/23/14.

Accession Number: 20141223-5256.

Comments Due: 5 p.m. ET 1/13/15.

Docket Numbers: ER15-721-000.

Applicants: FirstLight Hydro Generating Company.

Description: § 205(d) rate filing per 35.13(a)(2)(iii): Triennial Review to be effective 2/23/2015.

Filed Date: 12/23/14.

Accession Number: 20141223-5257.

Comments Due: 5 p.m. ET 1/13/15.

Docket Numbers: ER15-722-000.

Applicants: FirstLight Power Resources Management, LLC.

Description: § 205(d) rate filing per 35.13(a)(2)(iii): Triennial Review to be effective 2/23/2015.

Filed Date: 12/23/14.

Accession Number: 20141223-5259.

Comments Due: 5 p.m. ET 1/13/15.

Docket Numbers: ER15-723-000.

Applicants: GDF SUEZ Energy Marketing NA, Inc.

Description: § 205(d) rate filing per 35.13(a)(2)(iii): Triennial Review to be effective 2/23/2015.

Filed Date: 12/23/14.

Accession Number: 20141223-5272.

Comments Due: 5 p.m. ET 1/13/15.

Docket Numbers: ER15-724-000.

Applicants: Hopewell Cogeneration Limited Partnership.

Description: § 205(d) rate filing per 35.13(a)(2)(iii): Triennial Review to be effective 2/23/2015.

Filed Date: 12/23/14.

Accession Number: 20141223-5276.

Comments Due: 5 p.m. ET 1/13/15.

Docket Numbers: ER15-725-000.

Applicants: Mt. Tom Generating Company, LLC.

Description: § 205(d) rate filing per 35.13(a)(2)(iii): Triennial Review to be effective 2/23/2015.

Filed Date: 12/23/14.

Accession Number: 20141223-5277.

Comments Due: 5 p.m. ET 1/13/15.

Docket Numbers: ER15-726-000.

Applicants: Northeastern Power Company.

Description: § 205(d) rate filing per 35.13(a)(2)(iii): Triennial Review to be effective 2/23/2015.

Filed Date: 12/23/14.

Accession Number: 20141223-5278.

Comments Due: 5 p.m. ET 1/13/15.

Docket Numbers: ER15-727-000.

Applicants: Pinetree Power-Tamworth, Inc.

Description: § 205(d) rate filing per 35.13(a)(2)(iii): Triennial Review to be effective 2/23/2015.

Filed Date: 12/23/14.

Accession Number: 20141223-5279.

Comments Due: 5 p.m. ET 1/13/15.

Docket Numbers: ER15-728-000.

Applicants: Pleasants Energy, LLC.

Description: § 205(d) rate filing per 35.13(a)(2)(iii): Triennial Review to be effective 2/23/2015.

Filed Date: 12/23/14.

Accession Number: 20141223-5280.

Comments Due: 5 p.m. ET 1/13/15.

Docket Numbers: ER15-729-000.

Applicants: Troy Energy, LLC.

Description: Compliance filing per 35: Triennial Review to be effective 2/23/2015.

Filed Date: 12/23/14.

Accession Number: 20141223-5281.

Comments Due: 5 p.m. ET 1/13/15.

Docket Numbers: ER15-730-000.

Applicants: Midcontinent Independent System Operator, Inc.

Description: § 205(d) rate filing per 35.13(a)(2)(iii): 2014-12-23_Attachment L Revisions to be effective 2/22/2015.

Filed Date: 12/23/14.

Accession Number: 20141223-5307.

Comments Due: 5 p.m. ET 1/13/15.

Docket Numbers: ER15-731-000.

Applicants: Hampshire Council of Governments.

Description: Initial rate filing per 35.12 Hampshire Council of Governments, FERC Tariff Filing to be effective 1/1/2015.

Filed Date: 12/23/14.

Accession Number: 20141223-5308.

Comments Due: 5 p.m. ET 1/13/15.

Docket Numbers: ER15-732-000.

Applicants: PJM Interconnection, L.L.C., The Potomac Edison Company.

Description: § 205(d) rate filing per 35.13(a)(2)(iii): Potomac Edison submits revisions to OATT Att H-11A and SA No. 4032 (Thurmont) to be effective 2/1/2015.

Filed Date: 12/23/14.

Accession Number: 20141223-5310.

Comments Due: 5 p.m. ET 1/13/15.

Docket Numbers: ER15-733-000.

Applicants: PJM Interconnection, L.L.C., The Potomac Edison Company.

Description: § 205(d) rate filing per 35.13(a)(2)(iii): Potomac Edison submits revisions to OATT Att H-11A and SA No. 4032 (Thurmont) to be effective 2/1/2015.

Filed Date: 12/23/14.

Accession Number: 20141223-5311.

Comments Due: 5 p.m. ET 1/13/15.

Docket Numbers: ER15-734-000.

Applicants: Wolverine Power Supply Cooperative, Inc.

Description: § 205(d) rate filing per 35.13(a)(2)(iii): Wolverine MBR Filing to be effective 12/24/2014.

Filed Date: 12/24/14.

Accession Number: 20141224-5000.

Comments Due: 5 p.m. ET 1/14/15.

Docket Numbers: ER15-735-000.

Applicants: Pacific Gas and Electric Company.

Description: Notices of Termination of Facilities Charge Agreements between Pacific Gas and Electric Company and the City and County of San Francisco of Pacific Gas and Electric Company.

Filed Date: 12/23/14.

Accession Number: 20141223-5335.

Comments Due: 5 p.m. ET 1/13/15.

Docket Numbers: ER15-736-000.

Applicants: Brookfield Energy Marketing, LP.

Description: Request for Waiver of Brookfield Energy Marketing, LP of Brookfield Energy Marketing, LP under ER15-736.

Filed Date: 12/22/14.

Accession Number: 20141222-5401.

Comments Due: 5 p.m. ET 1/5/15.

Docket Numbers: ER15-737-000.

Applicants: Orlando CoGen Limited, L.P.

Description: Tariff Withdrawal per 35.15: Cancellation of Tariff to be effective 12/25/2014.

Filed Date: 12/24/14.

Accession Number: 20141224-5071.

Comments Due: 5 p.m. ET 1/14/15.

Docket Numbers: ER15-738-000.

Applicants: PJM Interconnection, L.L.C.

Description: Compliance filing per 35: Waiver Request to be effective N/A.

Filed Date: 12/24/14.

Accession Number: 20141224-5074.

Comments Due: 5 p.m. ET 1/14/15.

Docket Numbers: ER15-739-000.

Applicants: PJM Interconnection, L.L.C.

Description: § 205(d) rate filing per 35.13(a)(2)(iii): 2015/2016 Reliability to be effective 2/23/2015.

Filed Date: 12/24/14.

Accession Number: 20141224-5076.

Comments Due: 5 p.m. ET 1/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 24, 2014.
Nathaniel J. Davis, Sr.,
Deputy Secretary.

[FR Doc. 2014-30822 Filed 1-2-15; 8:45 am]

BILLING CODE 6717-01-P